DEPARTMENT OF HOUSING AND URBAN DEVELOPMENT

[Docket No. FR-5037-N-51]

Notice of Submission of Proposed Information Collection to OMB; Emergency Comment Request; Implementation of the Violence Against Women (VAWA) and Justice Department Reauthorization Act of 2005

AGENCY: Office of Public and Indian Housing.

ACTION: Notice of proposed information collection.

SUMMARY: The proposed information collection requirement described below has been submitted to the Office of Management and Budget (OMB) for emergency review and approval, as required by the Paperwork Reduction Act. The Department is soliciting public comments on the subject proposal.

This is a request for a new information collection that will be used by PHAs to request that an individual to certify via a HUD-approved certification form that the individual is a victim of domestic violence, dating violence, or stalking and that the incident or incidents in questions are bona fide incidents of the actual or threatened abuse. The certification must include the name of the perpetrator and the individual must provide the certification within 14 business days after the PHA requests the certification.

If the individual does not provide the certification within 14 business days after the PHA has requested the certification in writing, noting prohibits any PHA from evicting any tenant or terminating a lease. A PHA may, at its discretion, extend the 14-day deadline. A HUD-approved certification is required by VAWA and signed by President Bush on January 5, 2006 and effective upon enactment.

DATES: Comments Due Date: August 2, 2006.

ADDRESSES: Interested persons are invited to submit comments regarding this proposal. Comments must be received within fourteen (14) days from the date of this Notice. Comments should refer to the proposal by name and should be sent to: HUD Desk Officer, Office of Management and Regulatory Affairs, Office of Management and Budget, New Executive Office Building, Washington, DC 20503.

FOR FURTHER INFORMATION CONTACT: Lillian Deitzer, Paperwork Reduction Act Compliance Officer, AYO, Department of Housing and Urban Development, 451 Seventh Street, SW., Washington, DC 20410; e-mail Lillian_Deitzer@hud.gov, telephone (202) 708-2374. This is not a toll-free number. Copies of documentation submitted to OMB may be obtained from Ms. Deitzer.

SUPPLEMENTARY INFORMATION: This Notice informs the public that the U.S. Department of Housing and Urban Development (HUD) has submitted to OMB, for emergency processing, a proposed information collection requirement as described below.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Implementation of the Violence Against Women and Justice Department Reauthorization Act 2005.

Description of Information Collection: Information provided by a resident residing in the public housing and Section 8 voucher programs will submit a HUD-approved certification form that attests that the individual is a victim of abuse and the incidences of abuse are bona fide. Without the certification, a PHA or owner may terminate assistance. The information provided to the PHA and owner is confidential.

OMB Control Number: 2577—Pending.

Agency Form Numbers: None.

Members of Affected Public: Public Housing Authorities (PHAs) and Owners participant in the Section 8 voucher program.

Estimation of the total numbers of hours needed to prepare the information collection including number of respondents, frequency of responses, and hours of response: An estimation of the total number of hours needed to prepare the information collection is 60 minutes per applicant. The estimated number of respondents is 200. The frequency of response is once. The total public burden is estimated to be 200 hours.

Status: Proposed new collection.

Authority: The Paperwork Reduction Act of 1995, 44 U.S.C. Chapter 35, as amended.

Dated: July 13, 2006.
Lillian Deitzer,
Departmental Reports Management Officer, Office of the Chief Information Officer.

[FR Doc. E6-11443 Filed 7-18-06; 8:45 am]

BILLING CODE 4210-67-P